DEPARTMENT OF COMMERCE

International Trade Administration; Product Characteristics—Design Check-Off List

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506 (c)(2)(A)).

DATES: Written comments must be submitted on or before April 25, 2005.

ADDRESSES: Direct all written comments to Diana Hynek, Departmental Paperwork Clearance Officer, Department of Commerce, Room 6625, 14th & Constitution Avenue, NW., Washington, DC 20230 or via the Internet at dHynek@doc.gov.

FOR FURTHER INFORMATION CONTACT: Request for additional information or copies of the information collection instrument and instructions should be directed to: John Klingelhut, U.S. & Foreign Commercial Service, Global Trade Programs, Room 2210, 14th & Constitution Avenue, NW., Washington, DC 20230; Phone number: (202) 482-4403, and fax number: (202) 482-0872 (or via the Internet at john.klingelhut@mail.doc.gov).

SUPPLEMENTARY INFORMATION:

I. Abstract

The International Trade Administration (ITA) sponsors approximately 120 overseas trade fair events each fiscal year. Trade fairs involve U.S. firms exhibiting their goods and services at American pavilions at internationally recognized events worldwide. The Product Characteristics—Design Check-Off List seeks from participating U.S. firms information on the physical nature, power (utility) and graphic requirements of the products and services to be displayed, in order to ensure the availability of utilities for active product demonstrations. This form also allows U.S. firms to identify special installation requirements that can be critical to the proper placement and hookup of their equipment and/or graphics. Without the timely and accurate submission of the Form ITA-426P, Product Characteristics—Design Check-Off Lists, ITA would be unable to provide a pavilion facility that would effectively support the sales/marketing and presentation objectives of the U.S. participants. Without such support, program productivity and utility would diminish, and declining program participation in this type of ITA activity by U.S. firms would result.

II. Method of Data Collection

Form ITA-426P is sent by request to U.S. firms. Responding firms complete the form and forward it to the Department of Commerce project officer several weeks prior to the beginning of the event.

III. Data

OMB Number: 0625-0035.

Form Number: ITA-426P.

Type of Review: Regular Submission.

Affected Public: Business or other for-profit companies applying to participate in Commerce Department trade promotion events.

Estimated Number of Respondents: 2,000.

Estimated Total Annual Burden Hours: 1,000 hours.

Estimated Total Annual Costs: The estimated annual cost for this collection is $31,480.00 ($18,900.00 for respondents and $12,580.00 for Federal government).

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: February 18, 2005.
Madeleine Clayton,
Management Analyst, Office of the Chief Information Officer.

[FR Doc. E5-757 Filed 2-23-05; 8:45 am]

BILLING CODE 3510-FP-P